DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-050. Applicant: The University of Texas at Austin, Fusion Research Center, 1 University Station, C1510, Austin, TX 78712. Instrument: “Helimak” Custom Magnetized Plasma Turbulence Apparatus. Manufacturer: Academia Sinica Institute of Plasma Physics, Peoples Republic of China. Intended Use: The instrument is intended to be used to study turbulence and transport in plasmas, principally hydrogen and argon plasmas. The basic properties of the plasma—density, temperature, and velocity—will be measured as well as the behavior of the fluctuations (turbulence) in those quantities. Experimental objectives include validating the nonlinear mechanisms occurring in plasma turbulence and the effect of shear in the flow velocity in stabilizing the turbulence. Application accepted by Commissioner of Customs: December 12, 2002.

Docket Number: 02-051. Applicant: National Renewable Energy Lab (NREL), 1617 Cole Boulevard, Golden, CO 80401. Instrument: Ignition Quality Tester. Manufacturer: Advanced Engine Technology Ltd., United Kingdom. Intended Use: The instrument is intended to be used to measure the ignition delay, maximum chamber temperature, rate of heat rise, and autoignition temperature of various diesel fuels, surrogate molecules, additives, and alternative fuel compounds to better understand how the molecular structure of fuel compounds relates to the ignition quality (and potentially to the exhaust emissions). The instrument will also be used to characterize new fuels (such as biodiesel) prior to testing them in engines. Application accepted by Commissioner of Customs: December 20, 2002.

Gerald A. Zerdy,
Program Manager, Statutory Import Programs Staff.

[FR Doc. 03-291 Filed 1-6-03; 8:45 am]

BILLING CODE 3510-DS-P